DEPARTMENT OF COMMERCE

United States Patent and Trademark Office

[Docket No.: PTO-P-2010-0087]

Extension of the Patent Application Backlog Reduction Stimulus Plan

AGENCY: United States Patent and Trademark Office, Commerce.

ACTION: Notice.

SUMMARY: The United States Patent and Trademark Office (USPTO) provides a basis (the Patent Application Backlog Reduction Stimulus Plan) under which an applicant may have an application accorded special status for examination if the applicant expressly abandons another copending unexamined application. The Patent Application Backlog Reduction Stimulus Plan allows applicants having multiple applications currently pending before the USPTO to have greater control over the priority with which their applications are examined while also stimulating a reduction of the backlog of unexamined patent applications pending before the USPTO. The USPTO is extending the Patent Application Backlog Reduction Stimulus Plan until December 31, 2011.

DATES: Effective Date: November 22, 2010. The Patent Application Backlog Reduction Stimulus Plan became effective on November 27, 2009, and was modified on June 24, 2010.

FOR FURTHER INFORMATION CONTACT: Pinchus M. Laufer, Office of Patent Legal Administration, Office of the Associate Commissioner for Patent Examination Policy, by telephone at 571-272-7726; or via e-mail addressed to Pinchus.Laufer@uspto.gov; or by mail addressed to: Box Comments Patents, Commissioner for Patents, P.O. Box 1450, Alexandria, VA 22313-1450.

SUPPLEMENTARY INFORMATION: The USPTO published a notice in the Federal Register providing an additional temporary basis (the Patent Application Backlog Reduction Stimulus Plan) under which a small entity applicant may have an application accorded special status for examination if the applicant expressly abandons another copending unexamined application. See Patent Application Backlog Reduction Stimulus Plan, 74 FR 62285 (Nov. 27, 2009), 1349 Off. Gaz. Pat. Off. 304 (Dec. 22, 2009) (notice). The Patent Application Backlog Reduction Stimulus Plan allowed small entity applicants having multiple applications currently pending before the USPTO to have greater control over the priority with which their applications are examined while also stimulating a reduction of the backlog of unexamined patent applications pending before the USPTO. The USPTO indicated that the plan would last for a period ending on February 28, 2010, but may be extended for an additional time period thereafter. See Patent Application Backlog Reduction Stimulus Plan, 74 FR at 62287, 1349 Off. Gaz. Pat. Off. at 306. The USPTO extended the plan for an additional four months to June 30, 2010. See Extension of the Patent Application Backlog Reduction Stimulus Plan, 75 FR 5041 (February 1, 2010), 1351 Off. Gaz. Pat. Off. 202 (February 23, 2010). Subsequently, the USPTO expanded the plan to eliminate the small entity requirement and further extended its duration to expire at the earlier of the December 31, 2010 date, or the date that 10,000 applications have been accorded special status under this plan. See Expansion and Extension of the Patent Application Backlog Reduction Stimulus Plan, 75 FR 36063 (June 24, 2010), 1356 Off. Gaz. Pat. Off. 173 (July 20, 2010).

The USPTO is extending the Patent Application Backlog Reduction Stimulus Plan until December 31, 2011. Accordingly, the Patent Application Backlog Reduction Stimulus Plan will run until 10,000 petitions have been granted or until December 31, 2011, whichever occurs earlier. The USPTO may further extend this plan (on either a temporary or permanent basis), or may also discontinue the plan after December 31, 2011, if 10,000 petitions have not been granted, depending upon the results of the plan. Information concerning the number of petitions that have been filed and granted under the Patent Application Backlog Reduction Stimulus Plan is available on the USPTO's Internet Web site at http://www.uspto.gov/patents/init_events/PatentStimulusPlan.jsp. For a petition under 37 CFR 1.102 to be granted under the procedure for the Patent Application Backlog Reduction Stimulus Plan, the petition under 37 CFR 1.102 and the letter of express abandonment and its accompanying statement must be filed on or before December 31, 2011 (unless the Patent Application Backlog Reduction Stimulus Plan is extended by a subsequent notice).

Dated: November 16, 2010.
David J. Kappos,
Under Secretary of Commerce for Intellectual Property and Director of the United States Patent and Trademark Office.

[FR Doc. 2010-29360 Filed 11-19-10; 8:45 am]

BILLING CODE 3510-16-P